NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 14, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-015

1. Applicant: Sarah Ruth, National Science Foundation, Office of Polar Programs, 2415 Eisenhower Ave., Alexandria, VA 22314

Activity for Which Permit is Requested: Enter Antarctic Specially Protected Area. The applicant seeks an Antarctic Conservation Act permit authorizing entry into Antarctic Specially Protected Areas (ASPA) in association with oversight and management of U.S. Antarctic Program science projects. The applicant proposes to enter specific ASPAs as needed to conduct site visits of various U.S. science teams working in those ASPAs. The applicant proposes to enter ASPAs on an as needed basis and would be accompanied within the ASPA at all times by the science project participants conducting work in that ASPA. No visits to ASPAs would occur if there is no U.S. Antarctic Program science project active in that ASPA.

Location: ASPA 106—Cape Hallett, Northern Victoria Land, Ross Sea; ASPA 113—Litchfield Island, Arthur Habor, Anvers Island; ASPA 121—Cape Royds, Ross Island; ASPA 124—Cape Crozier, Ross Island; ASPA 128—Western Shore of Admiralty Bay, King George Island; ASPA 131—Canada Glacier, Lake Fryxell, Taylor Valley; ASPA 139—Biscoe Point, Anvers Island; ASPA 149—Cape Shirreff and San Telmo Island, Livingston Island, South Shetland Islands; ASPA 155—Cape Evans, Ross Island; ASPA 172—Lower Taylor Glacier and Blood Falls, McMurdo Dry Valleys, Victoria Land; ASPA 173—Cape Washington and Silverfish Bay, Terra Nova Bay, Ross Sea; ASPA 176—Rosenthal Islands, Anvers Island.

Dates of Permitted Activities: December 15, 2023-March 31, 2024.

Permit Application: 2024-017

2. Applicant: Prash Karnik, Lindblad Expeditions, 96 Morton Street, New York, NY 10014

Activity for Which Permit is Requested: Enter Antarctic Specially Protected Area. The applicant seeks an Antarctic Conservation Act permit authorizing entry into Antarctic Specially Protected Areas (ASPA) in association with visits to historic huts in the Ross Sea region. All visits would be in accordance with the management plans for each ASPA.

Location: ASPA 155—Cape Evans, Ross Island; ASPA 157—Backdoor Bay, Cape Royds, Ross Island; ASPA 158—Hut Point, Ross Island; ASPA 159—Cape Adare, Borchgrevink Coast;

Dates of Permitted Activities: January 1, 2024-February 28, 2024.

Kimiko S Bowens-Knox,
Program Analyst, Office of Polar Programs.

[FR Doc. 2023-25003 Filed 11-13-23; 8:45 am]

BILLING CODE 7555-01-P